DEPARTMENT OF DEFENSE

Office of the Secretary

Availability of the Fiscal Year 2008 Defense Logistics Agency Services Contract Inventory

AGENCY: Defense Logistics Agency, DoD.

ACTION: Notice.

SUMMARY: In accordance with section 2330a of title 10 United States Code as amended by section 807 of the National Defense Authorization Act for Fiscal Year 2008, the Defense Logistics Agency (DLA) Director of Acquisition, and the Office of the Director, Defense Procurement and Acquisition Policy (DPAP) will make available to the public its inventory of activities performed pursuant to contracts for services. The inventory will be published to the DLA Web site at the following location: http://www.dla.mil/A-76/in-sourcing.

DATES: Inventory to be made publically available by October 30, 2009.

ADDRESSES: Send written comments and suggestions concerning this inventory to DLA, Attn: J-74 (Jim Nagy), 8725 John J. Kingman Road, Fort Belvoir, VA 22060-6221. Telephone (703) 767-0471 or E-mail at james.nagy@dla.mil.

FOR FURTHER INFORMATION CONTACT: Jim Nagy, (703) 767-0471 or E-mail at james.nagy@dla.mil.

SUPPLEMENTARY INFORMATION: Section 807 of the National Defense Authorization Act for Fiscal Year 2008 amends section 2330a of title 10 United States Code to require annual inventories and reviews of activities performed by services contracts. The Deputy Under Secretary of Defense (Acquisition and Technology) (DUSD(AT)) transmitted the DLA inventory to Congress on September 29, 2009. DLA submitted its Fiscal Year 2008 Services Contract Inventory to the Office of the DPAP on August 31, 2009. Included with this inventory is a narrative that describes the data collection process, the inventory data, and the on-going inventory review process. The inventory included such information as: The estimated contractor full time equivalents, and service contract costs by organization, location, function, contract type and funding source. The report may be downloaded in electronic form (.pdf and .xlsx files) from the Web site at the following location: http://www.dla.mil/A-76/in-sourcing. The inventory does not include contract numbers, contractor identification or other proprietary or sensitive information.

Dated: October 15, 2009.
Patricia L. Toppings,
OSD Federal Register Liaison Officer, Department of Defense.

[FR Doc. E9-25702 Filed 10-23-09; 8:45 am]

BILLING CODE 5001-06-P